DEPARTMENT OF HEALTH AND HUMAN SERVICES

Indian Health Service

National Indian Health Board

AGENCY: Indian Health Services, HHS.

ACTION: Notice to supplement the single-source cooperative agreement with the National Indian Health Board.

SUMMARY: The Indian Health Service (IHS) announces a supplement to the single-source cooperative agreement award to the National Indian Health Board (NIHB) for costs in providing advice and technical assistance to federally recognized Tribes in the area of health care policy analysis and program development. Under the original cooperative agreement published in the Federal Register, 69 FR 11447, on March 10, 2004, the NIHB provides advice, consultation, and health care advocacy to the IHS based on Tribal input through a broad-based consumer network involving the Area Health Boards or Health Board representatives from each of the 12 IHS Areas. In addition, the NIHB communicates with Tribes and Tribal organizations concerning health issues, disseminates health care information, improves and expands access for American Indians and Alaska Native (AI/AN) Tribal Governments to all available programs in the Department of Health and Human services (HHS), and coordinates the Tribal consultation activities associated with formulating the IHS annual budget request. The program supplement to the single-source cooperative agreement is for $622,730 of one time funding for use during the current budget period in effect from 03/15/2004 to 12/31/2004. The annual funding levels of this single-source cooperative agreement is approximately $230,000, subject to the availability of appropriations.

Justification for Program Expansion Supplement

The program expansion supplement is issued under the authority of the Public Health Service Act, Section 301(a), and is included under the Catalog of Federal Domestic Assistance number 93.933. This supplemental funding is related to the original goals of the cooperative agreement and does represent an expansion of activities within the present scope of work. The Federal Register notice for the sole-source cooperative agreement award can be found in 69 FR 11447, published on March 10, 2004. The specific objectives and justifications for this program supplement are as follows:

1. Assistance to States, Tribal Governments, and the HHS Policy Academy to address the needs of young AI/AN adults with disabilities.

Assistance on this joint initiative of the Office of Disability, HHS and the IHS will result in the development of an action plan to address the needs of young AI/AN adults with disabilities who are between 16-30 years of age. It is necessary that the HHS Office of Disabilities and the States have access to the expertise and experience of the NIHB in order to meet the culturally diverse needs if AI/AN youth with disabilities. The involvement of NIHB in the Policy Academy will ensure that the HHS Office of Disabilities and the States are kept informed of the AI/AN consumer perspective throughout all activities. This task is consistent with the NIHB goal of improving access for AI/AN people to the programs of HHS.

2. Assistance to the Centers for Medicare and Medicaid Services (CMS) for outreach and education within the AI/AN community.

Funding has been transferred through an Intra-Agency agreement between CMS and the IHS to supplement the NIHB cooperative agreement. The NIHB will be tasked with implementing outreach and education activities specific to AI/AN beneficiaries regarding the Medicare-approved drug discount card and the transitional assistance program, both of which are authorized under the provisions of the Medicare Modernization Act. The CMS support for this initiative is in recognition of NIHB's capability to systematically disseminate pertinent and timely health care information to AI/AN Tribal Governments and Health Boards. The NIHB's dissemination activity is funded within the organization's present scope of work. This effort is also consistent with the NIHB goal of expanding access by AI/ANs to other programs of the HHS.

3. Assistance to the CMS in the development of a strategic plan for AI/ANs.

In recognition of the NIHB's status as the only national Indian organization that is representative of Tribal Governments and has expertise in AI/AN health issues, the CMS has transferred funds through a second Intra-Agency Agreement between CMS and the IHS. The purpose of the agreement is to support NIHB assistance to the Agency in developing a strategic plan to improve CMS' services to eligible AI/AN beneficiaries. This is consistent with goals in the scope of work in which NIHB seeks to establish relationships with Federal agencies to service as a health advocate for AI/AN people and expand services to them from other HHS agencies.

4. Assistance in the implementation of the IHS Director's Health Promotion/Disease Prevention (HP/DP) Initiative.

The Director, IHS, has announced this initiative in conjunction with President Bush's “Healthier U.S. Initiative” and HHS Secretary Thompson's “Steps to a Healthier U.S.” to reduce health disparities among AI/AN people. This initiative is a strategic approach to strengthening prevention efforts to improve the health and wellness of AI/AN families through expanded collaboration with Federal and non-Federal partners. The IHS will support this prevention effort, in part, through a partnership with NIHB in promoting physical activity in AI/AN communities under a program called “Just Move it.” The NIHB will assist the IHS in managing this particular HP/DP Initiative by hosting a Web site for Tribal communities to become “Just Move It” partners, marketing this effort to Tribes, etc. These activities are consistent with the NIHB goals of systematically disseminating pertinent and timely health care information to AI/AN communities and establishing relationships with other organizations to serve as advocates for improved Indian health.

5. Assistance to the IHS in the evaluation of the current relationships between schools of public health and AI/AN communities.

In order to determine the current relationships between schools of public health and AI/AN communities, the NIHB will assist the IHS in developing a baseline report of research activities and existing partnerships. The NIHB will serve in an advisory capacity to the IHS and the Association of Schools of Public Health on this initiative. The organization has the expertise and experience to provide technical assistance on issues related to working in Indian Country such as infrastructure, Tribal Government protocols, cultural and legal aspects of sovereignty, and the appropriateness of products and deliverables. The objective of this effort will result in recommendations on improving the public health infrastructure in AI/AN communities. The purpose of this report is consistent with the NIHB goals of developing relationships with other organizations and professional groups in order to serve as an advocate for improved AI/AN health care.

Justification for Single Source

This project has been awarded on a non-competitive, single-source basis. The NIHB is the only national AI/AN organization with health expertise that represents the interest of all federally recognized Tribes.

Use of Cooperative Agreement

The program supplement to the original cooperative agreement has been awarded because of anticipated substantial programmatic involvement by IHS staff in the project. The substantial programmatic involvement includes the following:

(1) The IHS staff will have approval over the hiring of key personnel as defined by regulation or provision in the cooperative agreement.

(2) The IHS will provide technical assistance to the NIHB as requested and attend and participate in all NIHB board meetings.

FOR FURTHER INFORMATION CONTACT: Mr. Douglas Black, Director, Office of Tribal Programs, Office of the Director, Indian Health Service, 801 Thompson Avenue, Reyes Building, Suite 220 Rockville, Maryland 20852, (301) 443-1104. For grants information, contact Ms. Sylvia Ryan, Grants Management Specialist, Division of Grants Policy, 12300 Twinbrook Parkway, Suite 100, Rockville, Maryland 20852, (301) 443-5204.

Dated: September 28, 2004.
Charles W. Grim,
Assistant Surgeon General, Director, Indian Health Service.

[FR Doc. 04-22333 Filed 10-4-04; 8:45 am]

BILLING CODE 4160-16-M